DEPARTMENT OF DEFENSE

Office of the Secretary

[Docket ID: DoD-2012-OS-0140]

Privacy Act of 1974; System of Records

AGENCY: Defense Threat Reduction Agency, DoD.

ACTION: Notice to amend two systems of records.

SUMMARY: The Defense Threat Reduction Agency is amending two systems of records notices in its existing inventory of record systems subject to the Privacy Act of 1974 (5 U.S.C. 552a), as amended.

DATES: This proposed action will be effective on December 20, 2012 unless comments are received which result in a contrary determination. Comments will be accepted on or before December 19, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Juanita Gaines, Freedom of Information and Privacy Office, Defense Threat Reduction Agency, 8725 John J. Kingman Road, Fort Belvoir, VA 22060-6201 or by phone at (703) 767-1771.

SUPPLEMENTARY INFORMATION: The Defense Threat Reduction Agency systems of records notices subject to the Privacy Act of 1974 (5 U.S.C. 552a), as amended, have been published in the Federal Register and are available from the address in FOR FURTHER INFORMATION CONTACT.

The proposed changes to the records systems being amended are set forth below. The proposed amendment is not within the purview of subsection (r) of the Privacy Act of 1974 (5 U.S.C. 552a), as amended, which requires the submission of a new or altered system report.

Dated: November 14, 2012.
Aaron Siegel,
Alternate OSD Federal Register Liaison Officer, Department of Defense.

HDTRA 013

System name:

Assignment and Correspondence Tracking System (December 14, 2010, 75 FR 77851).

Changes:

* * * * *

Purpose:

Delete entry and replace with “The system is used to initiate, manage, and track assignments coming from outside DTRA as well as those generated within DTRA at the Director, Deputy Director, Chief of Staff, Staff offices, and Directorate to Directorate levels.”

* * * * *

Notification procedure:

Delete entry and replace with “Individuals seeking to determine whether information about themselves is contained in this system of records should submit a written request, to the Chief, Freedom of Information and Privacy Office, Defense Threat Reduction Agency, 8725 John J. Kingman Road, Fort Belvoir, VA 22060-6201.

Individuals should furnish their full name, current address, and telephone number.”

Record access procedures:

Delete entry and replace with “Individuals seeking to access records about themselves contained in this system of records should address written inquiries to the Chief, Freedom of Information and Privacy Office, Defense Threat Reduction Agency, 8725 John J. Kingman Road, Fort Belvoir, VA 22060-6201.

Individuals should furnish their full name, current address, and telephone number.”

Contesting record procedures:

Delete entry and replace with “The DTRA rules for accessing records and for contesting contents and appealing initial agency determinations are published in DTRA Instruction 5400.11, DTRA Privacy Program; 32 CFR Part 318; or may be obtained from the Chief, Freedom of Information and Privacy Office, Defense Threat Reduction Agency, 8725 John J. Kingman Road, Fort Belvoir, VA 22060-6201.”

* * * * *

HDTRA 017

System name:

Voluntary Leave Transfer Program Records (April 2, 2010 75 FR 16758).

Changes:

* * * * *

System location:

Delete entry and replace with “Human Resources, Defense Threat Reduction Agency, 8725 John J. Kingman Road, Fort Belvoir, VA 22060-6201.”

* * * * *

System manager(s) and address:

Delete “Human Capital Office” and replace with “Human Resources.”

Notification procedure:

Delete entry and replace with “Individuals seeking to determine whether information about themselves is contained in this system of records should submit a written request, to the Chief, Freedom of Information and Privacy Office, Defense Threat Reduction Agency, 8725 John J. Kingman Road, Fort Belvoir, VA 22060-6201.

Written requests should contain the individual's full name and Social Security Number (SSN).”

Record access procedures:

Delete entry and replace with “Individuals seeking to access records about themselves contained in this system of records should address written inquiries to the Chief, Freedom of Information and Privacy Office, Defense Threat Reduction Agency, 8725 John J. Kingman Road, Fort Belvoir, VA 22060-6201.

Written requests should contain the individual's full name and Social Security Number (SSN).”

Contesting record procedures:

Delete entry and replace with “The DTRA rules for accessing records and for contesting contents and appealing initial agency determinations are published in DTRA Instruction 5400.11, DTRA Privacy Program; 32 CFR Part 318; or may be obtained from the Chief, Freedom of Information and Privacy Office, Defense Threat Reduction Agency, 8725 John J. Kingman Road, Fort Belvoir, VA 22060-6201.”

* * * * *

[FR Doc. 2012-28020 Filed 11-16-12; 8:45 am]

BILLING CODE 5001-06-P